NUCLEAR REGULATORY COMMISSION

[Docket No. 50-400]

Carolina Power & Light Company; Notice of Withdrawal of Application for Amendment to Facility Operating License

The U.S. Nuclear Regulatory Commission (the Commission) has granted the request of Carolina Power & Light Company (the licensee) to withdraw its February 15, 2001, application for proposed amendment to Facility Operating License No. NPF-63 for the Shearon Harris Nuclear Power Plant, Unit No. 1, located in Wake and Chatham Counties, North Carolina.

The proposed amendment would have revised the Technical Specifications to clarify and relocate the requirements for containment isolation valve testing.

The Commission had previously issued a Notice of Consideration of Issuance of Amendment published in the Federal Register on March 21, 2001 (66 FR 15917). However, by letter dated January 29, 2002, the licensee withdrew the proposed change.

For further details with respect to this action, see the application for amendment dated February 15, 2001, and the licensee's letter dated January 29, 2002, which withdrew the application for license amendment. Documents may be examined, and/or copied for a fee, at the NRC's Public Document Room (PDR), located at One White Flint North, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR Reference staff by telephone at 1-800-397-4209 or 301-415-4737, or by e-mail to pdr@nrc.gov.

Dated at Rockville, Maryland, this 11th day of February, 2002.
For the Nuclear Regulatory Commission.
John M. Goshen,
Project Manager, Section 2, Project Directorate II, Division of Licensing Project Management, Office of Nuclear Reactor Regulation.

[FR Doc. 02-3900 Filed 2-15-02; 8:45 am]

BILLING CODE 7590-01-P